DEPARTMENT OF COMMERCE

National Oceanic and Atmospheric Administration

50 CFR Part 660

[Docket No. 000831250-0250-01; 111601D]

Fisheries off West Coast States and in the Western Pacific; Coastal Pelagic Species Fisheries; Closure of Directed Fishery for Pacific Mackerel

AGENCY: National Marine Fisheries Service (NMFS), National Oceanic and Atmospheric Administration (NOAA), Commerce.

ACTION: Closure of directed fishery for Pacific mackerel.

SUMMARY: NMFS announces the closure of the directed fishery for Pacific mackerel in the exclusive economic zone off the Pacific coast at 12 noon local time (l.t.) on November 21, 2001. For the fishing season beginning July 1, 2001, 6,000 mt of the 13,837-mt harvest guideline was established for a directed fishery. Based on recent landings, more than 6,000 mt of Pacific mackerel has been landed; therefore, the directed fishery is being closed and the trip limit imposed. The intended effect of this action is to ensure that the harvest guideline will be achieved, but not exceeded, and to minimize bycatch of Pacific mackerel while other coastal pelagic species are being harvested.

DATES: Effective 12 noon local time on November 21, 2001, until the effective date of the 2002 fishing season for Pacific mackerel, which will publish in the Federal Register.

ADDRESSES: The data that was used as the basis for this action is available for public inspection at the Office of the Acting Regional Administrator, Rodney R. McInnis, Southwest Region (Regional Administrator), NMFS, 501 W. Ocean Boulevard, Suite 4200, Long Beach, CA 90802-4213.

FOR FURTHER INFORMATION CONTACT: James J. Morgan, Southwest Region, NMFS, 562-980-4036.

SUPPLEMENTARY INFORMATION: On July 25, 2001, NMFS announced in the Federal Register (66 FR 38571) a harvest guideline of 13,837 mt for Pacific mackerel for the fishing season July 1, 2001, through June 30, 2002. A directed fishery of 6,000 mt was established, which, when attained, would be followed by an incidental allowance of 45 percent by weight of Pacific mackerel in a landing of any coastal pelagic species. If a significant amount of the harvest guideline remained unused before the end of the fishing season on June 30, 2002, the directed fishery would be reopened. This approach was taken because of concern about the low harvest guideline’s potential negative effect on the harvest of Pacific sardine if the fishery for Pacific mackerel had to be closed.

As of November 8, 2001, 6,079 mt of Pacific mackerel has been landed. The recent harvest rate will lead to reaching the harvest guideline before the end of the season and at a time when sardine harvests are likely to be high; therefore, the incidental allowance of 45 percent by weight will be implemented. This will minimize bycatch of Pacific mackerel while allowing the sardine fishery to be conducted without further restrictions. If a significant portion of the 13,837-mt harvest guideline remains before the end of the fishing season on June 30, 2002, the directed fishery will be reopened.

For the reasons stated here and in accordance with the FMP and its implementing regulations at 50 CFR 660.509, the directed fishery for Pacific mackerel will be closed at 12:00 l.t. on November 21, 2001, after which time no more than 45 percent by weight of a landing of Pacific sardine, northern anchovy, jack mackerel, or market squid may consist of Pacific mackerel.

Classification

This action is required by 50 CFR 660.509 and is exempt from review under Executive Order 12866.

The Assistant Administrator for Fisheries, NOAA finds good cause to waive the requirement to provide opportunity for prior notice and comment on this action pursuant to 5 U.S.C. 553(b)(B), as providing prior notice and opportunity for comment would be impracticable and unnecessary. It is impracticable because the fishery must be closed to prevent overharvest and to allow the sardine fishery to continue. It is unnecessary since this is a minor inseason action and the public had an opportunity to comment on the process that established the season openings and closings.

For these reasons, good cause also exists to waive the 30-day delay in effectiveness requirement of 5 U.S.C. 553 (d)(3).

Authority: 16 U.S.C. 1801 et seq.

Dated: November 21, 2001.
Bruce C. Morehead,
Acting Director, Office of Sustainable Fisheries, National Marine Fisheries Service.

[FR Doc. 01-29484 Filed 11-21-01; 2:51 pm]

BILLING CODE 3510-22-S